DEPARTMENT OF THE INTERIOR

Office of the Secretary

Statement of Findings: Snake River Water Rights Act of 2004

AGENCY: Office of the Secretary, Interior.

ACTION: Notice of Statement of Findings in accordance with Public Law 108-447.

SUMMARY: The Secretary of the Interior is causing this notice to be published as required by section 10(a)(5) of the Snake River Water Rights Act of 2004 (Settlement Act), Public Law 108-447, Division J, Title X, 118 Stat. 3431, 3438-39. The publication of this notice causes the waivers and releases of certain claims to become effective as required by the Settlement Act.

EFFECTIVE DATE: In accordance with section 10(a)(5) of the Settlement Act, the waivers and releases of claims described in section 10(a) of the Settlement Act are effective on May 15, 2007.

FOR FURTHER INFORMATION CONTACT: Address all comments and requests for additional information to Duane Mecham, Chair, Nez Perce Water Rights Settlement Federal Implementation Team, Office of the Regional Solicitor, Department of the Interior, 500 NE Multnomah Street, Suite 607, Portland, OR 97232. (503) 231-6299.

SUPPLEMENTARY INFORMATION: On April 20, 2004, the United States, State of Idaho (State), and Nez Perce Tribe (Tribe) submitted a document entitled Mediator's Term Sheet (Agreement) to the Snake River Basin Adjudication Court (SRBA Court) in SRBA Consolidated Subcase 03-10022 and SRBA Consolidated Subcase 67-13701.

The Agreement established the basis to resolve all of the Tribe's on-reservation and fisheries water right claims in the Snake River basin in Idaho. It also provided innovative and collaborative solutions for providing additional and protected flows for Snake River salmon runs protected under the Endangered Species Act without disrupting other uses for the water. Finally, the Agreement forged an increased role for the Tribe in the management of its water and other natural resources. On December 8, 2004, the Settlement Act was enacted into law to implement the Agreement.

Section 10(a)(5) of the Settlement Act required, in order to make effective certain waivers and releases of claims, that the Secretary publish in the Federal Register a statement of findings that the actions set forth in section IV.L of the Agreement: (A) Have been completed, including issuance of a judgment and decree by the SRBA Court from which no further appeal may be taken; and (B) have been determined by the United States on behalf of the Tribe and the allottees, the Tribe, and the State to be consistent in all material aspects with the Agreement. Section IV.L of the Agreement required: (1) Execution of all documents that comprise the settlement agreement; (2) Congressional approval and authorization of all Federal expenditures; (3) State legislative approval and enactment of all required State legislation; (4) Tribal approval; (5) SRBA Court entry of judgment and decree incorporating the agreement; and (6) issuance of biological opinions anticipated by the upper Snake component of the Agreement.

Statement of Findings

As required by section 10(a)(5)(A) of the Settlement Act and as required by section IV.L of the Agreement, I find on behalf of the Secretary as follows:

1. The parties executed all necessary component documents that make up the settlement agreement as required in section IV.L of the Agreement.

2. As part of Public Law 108-447, Congress approved the Agreement and authorized all Federal expenditures required by the Agreement.

3. Pursuant to Idaho House of Representatives Bills 152, 153, 154 and 399, 2005 Idaho Session Laws chapters 148-150 and 400, the State's legislature enacted the required State legislation and approved the Agreement.

4. By adoption of Resolution No. 05-210, the Nez Perce Tribal Executive Committee approved the Agreement for the Tribe.

5. On January 30, 2007, the SRBA Court issued a Consent Decree and Final Partial Decrees, including springs and fountains partial decrees, negotiated agreements regarding on-reservation claims, and in-stream flows to the Idaho Water Resources Board, and no further appeal may be taken.

6. The National Marine Fisheries Service and the U.S. Fish & Wildlife Service have issued the biological opinions anticipated by the upper Snake component of the Agreement.

As required by section 10(a)(5)(B) of the Settlement Act, I find on behalf of the Secretary as follows:

a. The United States on behalf of the Tribe and the allottees has determined that all actions required in section IV.L of the Agreement have been completed consistent in all material aspects with the Agreement.

b. The Governor of Idaho, by Proclamation signed pursuant to Idaho House of Representatives Bill 152, Section 4, in 2005 Idaho Session Laws, Chapter 148, has certified and determined that all actions required in section IV.L of the Agreement have been completed consistent in all material aspects with the Agreement.

c. The Chairman and Secretary of the Nez Perce Tribal Executive Committee, pursuant to the Nez Perce Tribal Executive Committee Resolution No. 05-210, has provided written certification to the Nez Perce Tribal Executive Committee and has determined that all actions required in section IV.L of the Agreement have been completed consistent in all material aspects with the Agreement.

Dated: April 29, 2007.
Carl J. Artman,
Assistant Secretary of Indian Affairs.

[FR Doc. E7-9332 Filed 5-14-07; 8:45 am]

BILLING CODE 4310-W7-P